DEPARTMENT OF COMMERCE.

International Trade Administration

A-570-831

Fresh Garlic from the People's Republic of China: Notice of Partial Rescission of the 12th Administrative Review

AGENCY: Import Administration, International Trade Administration, Department of Commerce

EFFECTIVE DATE: March 8, 2007

FOR FURTHER INFORMATION CONTACT: Matthew Renkey, AD/CVD Operations, Office 9, Import Administration, International Trade Administration, U.S. Department of Commerce, 14th Street and Constitution Avenue, NW, Washington DC 20230; telephone: (202) 482-2312.

Background

On December 27, 2006, the Department published a notice of initiation of an administrative review of fresh garlic from the People's Republic of China (“PRC”), covering the period November 1, 2005, through October 31, 2006. See Initiation of Antidumping and Countervailing Duty Administrative Reviews, 71 FR 77720 (December 27, 2006).

On January 23, 2007, the Fresh Garlic Producers Association (the “Petitioner”) withdrew its request for an administrative review for the following nine companies: Jinan Yipin Corporation, Ltd. (“Jinan Yipin”), Linshu Dading Private Agricultural Products Co., Ltd., (“Linshu Dading”), Qingdao Titan Shipping LLC (“Qingdao Titan”), Shandong Wonderland Organic Food Co., Ltd. (“Shandong Wonderland”), Shenzhen Xinboda Industrial Co., Ltd. (“Shenzhen Xinboda”), Taian Fook Huat Tong Kee Pte Ltd. (“Taian Fook Huat”), Weifang Hongqiao International Logistic Co., Ltd. (“Weifang Hongqiao”), Xuzhou Simple Garlic Industry Co., Ltd. (“Xuzhou Simple”), and Omni Decor China Ltd. (“Omni Decor”).

Partial Rescission

Pursuant to section 351.213(d)(1) of the Department's regulations, the Secretary will rescind an administrative review, in whole or in part, if a party who requested the review withdraws the request within 90 days of the date of publication of notice of initiation of the requested review.

Therefore, because the Petitioner's withdrawal of requests for review was timely and no other party requested a review of the aforementioned companies, in accordance with section 351.213(d)(1) of the Department's regulations, we are rescinding this review with respect to Jinan Yipin, Linshu Dading, Qingdao Titan, Shandong Wonderland, Shenzhen Xinboda, Taian Fook Huat, Weifang Hongqiao, Xuzhou Simple, and Omni Decor.

Assessment Rates

The Department will instruct U.S. Customs and Border Protection (“CBP”) to assess antidumping duties on all appropriate entries. For those companies for which this review has been rescinded and which have a separate rate, antidumping duties shall be assessed at rates equal to the cash deposit of estimated antidumping duties required at the time of entry, or withdrawal from warehouse, for consumption, in accordance with 19 CFR 351.212(c)(2). The Department will issue appropriate assessment instructions directly to CBP within 15 days of publication of this notice. For those companies for which this review has been rescinded but do not have a separate rate at this time (and thus remain part of the PRC-wide entity), the Department will issue assessment instructions upon the completion of this administrative review.

Notification to Importers

This notice serves as a final reminder to importers for whom this review is being rescinded, as of the publication date of this notice, of their responsibility under 19 CFR 351.402(f)(2) to file a certificate regarding the reimbursement of antidumping duties prior to liquidation of the relevant entries during this review period. Failure to comply with this requirement could result in the Secretary's presumption that reimbursement of the antidumping duties occurred and the subsequent assessment of double antidumping duties.

Notification Regarding APOs

This notice also serves as a reminder to parties subject to administrative protective orders (“APO”) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with section 777(i)(1) of the Act and 19 CFR 351.213(d)(4).

Dated: February 27, 2007.
Stephen J. Claeys
Deputy Assistant Secretary for Import Administration

[FR Doc. E7-4165 Filed 3-7-07; 8:45 am]

BILLING CODE 3510-DS-S